DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of its “Technology Partnership Ombudsmen Reporting Requirements”, OMB Control Number 1910-5118. This information collection package covers information necessary to implement a statutory requirement that the Technology Transfer Ombudsmen report quarterly on complaints they receive.

DATES: Comments regarding this collection must be received on or before July 14, 2005. If you anticipate that you will be submitting comments, but find it difficult to do so within the period of time allowed by this notice, please advise the OMB Desk Officer of your intention to make a submission as soon as possible. The Desk Officer may be telephoned at (202) 395-7345.

ADDRESSES: Written comments should be sent to: DOE Desk Officer, Office of Information and Regulatory Affairs, Office of Management and Budget New Executive Office Building, Room 10102, 735 17th Street, NW., Washington, DC 20503.

Comments should also be addressed to: Sharon Evelin, Director, Records Management, Division IM-11/Germantown Bldg., U.S. Department of Energy, 1000 Independence Ave, SW., Washington, DC 20585-1290.

Or by fax at (301) 903-9061 or by e-mail at sharon.evelin@hq.doe.gov.

And to Ann Broker, GC-12, U.S Department of Energy, 1000 Independence Ave, SW., Washington, DC 20585-1290 ann.broker@hq.doe.gov.

FOR FURTHER INFORMATION CONTACT: The individuals listed in ADDRESSES.

SUPPLEMENTARY INFORMATION: This package contains: (1) OMB No.: 1910-5118; (2) Package Title: Technology Partnerships Ombudsmen Reporting Requirements; (3) Type of Review: Renewal; (4) Purpose: The information collected is used to determine whether the Technology Transfer Ombudsmen appointed by DOE national laboratories in accordance with the Technology Commercialization Act of 2000 (Pub. L. 106-404) are properly working to resolve complaints from outside organizations regarding laboratory policies and actions with respect to technology partnerships; (5) Estimated Number of Respondents: 24; (6) Estimated Total Burden Hours: 100; Statutory Authority: Pub. L. 106-404, Technology Transfer Commercialization Act of 2000.

Issued in Washington, DC on June 3, 2005.
Sharon Evelin,
Director, Records Management Division, Office of the Chief Information Officer.

[FR Doc. 05-11724 Filed 6-13-05; 8:45 am]

BILLING CODE 6450-01-P